DEPARTMENT OF THE AIR FORCE

Air Force A-76 Initiatives Cost Comparisons and Direct Conversions (As of 31 March 2000)

The Air Force is in the process of conducting the following A-76 initiatives. Cost comparisons are public-private competitions. Direct conversions are functions that may result in a conversion to contract without public competition. These initiatives were announced and in-progress as of 31 March 2000, include the installation and state where the cost comparison or direct conversion is being performed, the total authorizations under study, public announcement date and actual or anticipated solicitation date. The following initiatives are in various stages of completion.

Cost Comparisons
Installation | State | Function(s) | Total authorizations | Public announcement date | Solicitation issued or scheduled date
ANDERSEN | GUAM | SUPPLY AND TRANSPORTATION | 317 | 25-Jun-98 | 28-May-99
ANDREWS | MD | COMMUNICATION FUNCTIONS | 181 | 04-Oct-99 | 11-May-01
ANDREWS | MD | HEATING SYSTEMS | 22 | 17-Dec-98 | 18-Feb-00
ANDREWS | MD | GROUNDS MAINTENANCE | 9 | 17-Dec-98 | 17-Apr-00
ANDREWS | MD | AIRCRAFT MAINTENANCE AND SUPPLY | 815 | 25-Jul-97 | 26-May-99
AVON PARK | FL | RANGE OPERATIONS | 38 | 22-Dec-99 | 15-Oct-00
BARKSDALE | LA | PROTECTIVE COATING | 13 | 14-Dec-98 | 15-Apr-00
BEALE | CA | BASE OPERATING SUPPORT | 383 | 08-Sep-99 | 07-Mar-01
BOLLING | DC | SUPPLY AND TRANSPORTATION | 163 | 01-Dec-98 | 11-Jul-00
CARSWELL | TX | BASE OPERATING SUPPORT | 69 | 03-Feb-00 | 05-Jun-01
CHEYENNE MTN | CO | CIVIL ENGINEERING | 139 | 08-May-98 | 24-Sep-99
DAVIS MONTHAN | AZ | BASE SUPPLY | 35 | 04-Jan-00 | TBD
DOVER | DE | HEATING SYSTEMS | 11 | 07-Jan-99 | 07-Jan-00
EDWARDS | CA | BASE OPERATING SUPPORT | 553 | 09-Dec-98 | 08-Nov-00
EDWARDS | CA | TRANSIENT AIRCRAFT MAINTENANCE/AEROSPACE GROUND EQUIPMENT | 146 | 06-Nov-98 | 15-May-00
EGLIN | FL | ADMINISTRATIVE SUPPORT | 52 | 22-Sep-99 | 29-Sep-00
EGLIN | FL | CIVIL ENGINEERING | 200 | 03-Dec-96 | 21-Jul-98
EIELSON | AK | COMMUNICATIONS OPERATIONS AND MAINTENANCE | 63 | 29-Oct-99 | 05-Jul-00
ELMENDORF | AK | BASE SUPPLY | 208 | 26-Mar-99 | 15-Apr-00
ELMENDORF | AK | COMMUNICATIONS OPERATIONS AND MAINTENANCE | 81 | 05-Jan-00 | 03-Sep-00
FAIRCHILD | WA | HEATING SYSTEMS | 16 | 16-Mar-99 | 01-Mar-00
GREATER PITTSBURGH | PA | BASE OPERATING SUPPORT | 77 | 13-Jun-96 | 10-Nov-99
GRISSOM | IN | BASE OPERATING SUPPORT | 133 | 13-Jun-96 | 01-Oct-99
HANSCOM AFB | MA | CIVIL ENGINEERING | 201 | 09-Dec-98 | 25-Feb-00
HANSCOM AFB | MA | BASE SUPPLY | 70 | 10-Nov-98 | 15-Apr-00
HANSCOM AFB | MA | EDUCATION/TRAINING AND PERSONNEL | 17 | 25-Nov-98 | 15-Apr-00
HILL AFB | UT | BASE OPERATING SUPPORT | 576 | 30-Sep-98 | 20-Sep-00
HOLLOMAN AFB | NM | MILITARY FAMILY HOUSING MAINTENANCE | 66 | 12-May-97 | 14-Jan-00
HOLLOMAN AFB | NM | TEST TRACK | 125 | 18-Nov-99 | 25-Aug-00
HOMESTEAD | FL | BASE OPERATING SUPPORT | 106 | 13-Jun-96 | 15-Jan-00
HURLBURT COM FL | FL | ADMINISTRATIVE SUPPORT | 37 | 28-Apr-99 | 09-Mar-01
HURLBURT COM FL | FL | COMMUNICATION FUNCTIONS | 50 | 31-Jul-98 | 19-Jun-00
HURLBURT COM FL | FL | BASE SUPPLY | 33 | 15-Jul-98 | 17-Feb-00
KEESLER | MS | MULTIPLE SUPPORT FUNCTIONS | 741 | 21-Sep-99 | TBD
KIRTLAND | NM | BASE COMMUNICATIONS | 228 | 06-Nov-97 | 04-Jun-99
LACKLAND | TX | MULTIPLE SUPPORT FUNCTIONS | 1440 | 26-Jan-99 | 09-Aug-99
LANGLEY | VA | GENERAL LIBRARY | 11 | 22-Dec-98 | 15-May-00
MARCH | CA | BASE OPERATING SUPPORT | 195 | 13-Jun-96 | 15-Nov-99
MAXWELL | AL | MULTIPLE SUPPORT FUNCTIONS | 814 | 28-Apr-98 | 22-Mar-99
MCCHORD | WA | GROUNDS MAINTENANCE | 10 | 14-Jun-99 | 17-Jun-00
MULTIPLE INSTL |  | ADMINISTRATIVE SWITCHBOARD | 44 | 19-Jun-97 | 15-Apr-00
CROUGHTON | UK
FAIRFORD | UK
LAKENHEATH | UK
MILDENHALL | UK
MOLESWORTH | UK
MULTIPLE INSTLNS |  | TRANSIENT AIRCRAFT MAINTENANCE | 15 | 07-Jul-99 | 30-Apr-00
LAKENHEATH | UK
MILDENHALL | UK
MULTIPLE INSTLNS |  | PRECISION MEASUREMENT EQUIPMENT LABORATORY (PMEL) | 1516 | 24-Sep-98 | 29-Oct-99
MULTIPLE INSTLNS |  | TRANSIENT AIRCRAFT MAINTENANCE | 24 | 07-Jul-99 | 30-Apr-00
RAMSTEIN | GERMY
SPANGDAHLEM | GERMY
MULTIPLE INSTLNS |  | COMMUNICATION FUNCTIONS | 141 | 11-Mar-99 | 17-Apr-00
GENERAL MITCHELL | WI
WESTOVER | MA
MINN-ST PAUL | MN
YOUNGSTOWN | OH
WILLOW GROVE | PA
GRISSOM | IN
PITTSBURGH | PA
MARCH | CA
HOMESTEAD | FL
CARSWELL | TX
NEW ORLEANS | LA
MULTIPLE INSTLNS |  | ADMINISTRATIVE SWITCHBOARD | 50 | 19-Jun-97 | 15-Apr-00
RAMSTEIN | GERMY
SEMBACH | GERMY
SPANGDAHLEM | GERMY
MULTIPLE INSTLNS |  | COMMUNICATION FUNCTIONS | 208 | 03-Aug-99 | 15-May-00
LANGLEY | VA
HILL AFB | UT
MULTIPLE INSTLNS |  | MULTIPLE SUPPORT FUNCTIONS | 124 | 14-Jul-99 | 30-Dec-00
CROUGHTON | UK
FAIRFORD | UK
MOLESWORTH | UK
MULTIPLE INSTLNS |  | EDUCATION SERVICES | 153 | 07-Jan-99 | 21-Jan-00
HOWARD | PANMA
MOODY | GA
MINOT | ND
MT HOME | ID
NELLIS | NV
SHAW | SC
WHITEMAN | MO
LAJES | AZORE
ELLSWORTH | SD
SEYMOUR JOHNSON | NC
HOLLOMAN | NM
DYESS | TX
DAVIS MONTHAN | AZ
CANNON | NM
BARKSDALE | LA
KEFLAVIK | ICELD
LANGLEY | VA
BEALE | CA
NEW BOSTON | NH | BASE OPERATING SUPPORT | 48 | 03-Dec-97 | 01-Jun-00
OFFUTT | NE | BASE OPERATING SUPPORT | 1608 | 30-Sep-98 | 15-Aug-00
PATRICK | FL | SUPPLY AND TRANSPORTATION | 43 | 14-May-98 | 12-Jun-00
PETERSON | CO | PERSONNEL SERVICES | 92 | 05-Jan-00 | 01-Dec-00
ROBINS | GA | BASE SUPPLY | 133 | 01-Apr-99 | 21-Jun-00
ROBINS | GA | EDUCATION SERVICES | 57 | 07-Jan-99 | 26-Jun-00
ROBINS | GA | ADMINISTRATIVE TELEPHONE SWITCHBOARD | 17 | 17-Mar-99 | 07-Apr-00
SCOTT | IL | COMMUNICATIONS OPERATIONS AND MAINTENANCE FUNCTIONS | 178 | 19-Mar-98 | 16-Aug-99
SCOTT | IL | PERSONNEL SERVICES | 236 | 25-Jun-99 | 19-Feb-01
SEMBACH | GERMY | COMMUNICATION FUNCTIONS | 48 | 18-Dec-98 | 15-Apr-00
SHEPPARD | TX | MULTIPLE SUPPORT FUNCTIONS | 549 | 21-Sep-99 | 29-Jun-00
TINKER | OK | EDUCATION SERVICES | 54 | 16-Nov-98 | 17-Nov-99
TINKER | OK | BASE SUPPLY | 152 | 30-Nov-98 | 17-Nov-99
TINKER | OK | ENVIRONMENTAL | 53 | 24-Nov-98 | 12-Nov-99
TRAVIS | CA | VEHICLE OPERATIONS AND MAINTENANCE | 131 | 15-Jul-98 | 14-Apr-00
USAF ACADEMY | CO | BASE OPERATING SUPPORT | 108 | 08-May-98 | 09-May-00
USAF ACADEMY | CO | CIVIL ENGINEERING | 497 | 01-Dec-98 | 24-Mar-00
USAF ACADEMY | CO | FOOD SERVICES | 297 | 08-May-98 | 21-Apr-99
USAF ACADEMY | CO | SERVICES ACTIVITIES | 75 | 08-May-98 | 17-Sep-99
USAF ACADEMY | CO | COMMUNICATION FUNCTIONS | 114 | 20-May-99 | 05-Jun-00
WHITEMAN | MO | UTILITIES PLANT | 11 | 18-Aug-99 | 27-May-00
WILLOW GROVE | PA | BASE OPERATING SUPPORT | 52 | 13-Jun-96 | 28-Sep-98
WRIGHT PATTERSON | OH | LABORATORY SUPPORT SERVICES | 127 | 21-Aug-98 | 29-Oct-99
WRIGHT PATTERSON | OH | CIVIL ENGINEERING | 104 | 21-Aug-98 | 03-Mar-00

Direct Conversions
Installation | State | Function(s) | Total authorizations | Public announcement date | Solicitation issued or scheduled date
ANDERSEN | GUAM | AIR TRAFFIC CONTROL | 12 | 14-Sep-99 | 27-May-00
ASHEVILLE | NC | COMPUTER SYSTEMS MAINTENANCE | 10 | 17-Feb-99 | 01-Jun-00
BARKSDALE | LA | ADMINISTRATIVE SWITCHBOARD | 10 | 04-Aug-98 | 22-Nov-99
CANNON | NM | PROTECTIVE COATING | 2 | 07-Jan-99 | 01-Apr-00
CHEYENNE MTN | CO | COMMUNICATION FUNCTIONS | 385 | 08-May-98 | 01-Dec-99
DAVIS MONTHAN | AZ | PROTECTIVE COATING | 9 | 24-Jun-98 | 27-Mar-00
DAVIS MONTHAN | AZ | RAILROAD TRANSPORTATION SERVICES | 2 | 11-Aug-98 | 21-Apr-00
EDWARDS | CA | LIBRARY | 7 | 09-Dec-98 | 26-Jun-00
ELLSWORTH | SD | ENVIRONMENTAL | 7 | 05-Nov-98 | 14-Apr-00
F E WARREN | WY | BASE COMMUNICATIONS | 105 | 30-Oct-97 | 10-Apr-00
GRAND FORKS | ND | MUNITIONS MAINTENANCE | 5 | 17-May-99 | 13-Oct-00
HICKAM | HI | AIR MOBILITY OPERATIONS CONTROL CENTER (AMOCC) | 53 | 29-Oct-99 | 01-Jul-00
HURLBURT COM FL | FL | HOUSING MANAGEMENT | 12 | 20-Jan-00 | TBD
HURLBURT COM FL | FL | SUPPLY RETAIL SALES SECTION | 10 | 15-Jul-98 | 17-Feb-00
KIRTLAND | NM | ENVIRONMENTAL | 32 | 24-Nov-98 | 17-Jul-00
KIRTLAND | NM | GENERAL LIBRARY | 4 | 12-Jan-99 | 17-Jul-00
KIRTLAND | NM | AIRCRAFT MAINTENANCE | 165 | 05-Nov-99 | 14-Dec-99
KIRTLAND | NM | EDUCATION SERVICES | 12 | 26-Oct-98 | 20-Mar-00
KIRTLAND | NM | RECREATIONAL SUPPORT | 9 | 12-Jan-99 | 17-Jul-00
KIRTLAND | NM | FOOD SERVICES | 15 | 29-Oct-99 | 30-Apr-00
KIRTLAND | NM | CIVIL ENGINEERING | 360 | 09-Dec-98 | 16-Feb-00
LACKLAND | TX | FOOD SERVICES | 20 | 20-Dec-99 | 05-Jun-00
LACKLAND | TX | FACILITIES SERVICES MAINTENANCE | 63 | 07-Feb-00 | 14-May-00
LANGLEY | VA | COMMUNICATION FUNCTIONS | 8 | 23-Mar-99 | 01-Aug-00
LANGLEY | VA | COMMUNICATIONS ADMINISTRATION AND INFORMATION FUNCTION | 13 | 31-Jan-00 | 01-Aug-00
LANGLEY | VA | DATA PROCESSING EQUIPMENT OPERATIONS | 15 | 04-Nov-99 | 15-Sep-00
LANGLEY | VA | TRANSIENT AIRCRAFT MAINTENANCE | 21 | 27-Aug-98 | 27-Aug-99
LANGLEY | VA | AIRCRAFT FLEET SERVICES | 11 | 29-Jun-99 | 15-Jun-00
MALMSTROM | MT | BASE COMMUNICATIONS | 85 | 06-Oct-97 | 15-May-00
MAXWELL | AL | EDUCATION SERVICES | 35 | 31-Jul-98 | 15-Jan-00
MCGUIRE | NJ | FURNISHINGS MANAGEMENT | 2 | 14-May-99 | 07-Apr-00
MCGUIRE | NJ | HEATING SYSTEMS | 6 | 04-May-99 | 31-Aug-00
MINOT | ND | GROUNDS MAINTENANCE | 9 | 18-May-99 | 23-Oct-00
MT HOME | ID | GROUNDS MAINTENANCE | 6 | 20-Jul-99 | 09-Jul-00
MT HOME | ID | TRANSIENT AIRCRAFT MAINTENANCE | 7 | 27-Aug-98 | 29-Jul-99
MULTIPLE INSTLNS |  | LINEN | 11 | 17-Jun-99 | 22-May-00
RAMSTEIN | GERMY |
SPANGDAHLEM | GERMY |
LAKENHEATH | UK |
MILDENHALL | UK |
NELLIS | NV | COMMUNICATION FUNCTIONS | 9 | 22-Dec-98 | 18-Nov-99
OFFUTT | NE | COMPUTER OPERATIONS | 76 | 17-Feb-99 | 30-May-00
POPE | NC | FURNISHINGS MANAGEMENT | 1 | 07-Oct-98 | 27-Mar-00
RANDOLPH | TX | COURSEWARE DEVELOPMENT | 38 | 30-Sep-99 | TBD
ROBINS | GA | GENERAL LIBRARY | 6 | 23-Nov-99 | 16-Jun-00
ROBINS | GA | PROTECTIVE COATING | 8 | 18-Jan-00 | 08-Jun-00
SCHRIEVER | CO | FOOD SERVICES | 18 | 02-Sep-99 | 01-Nov-00
SCOTT | IL | FURNISHINGS MANAGEMENT | 3 | 07-Aug-98 | 01-Jul-00
SCOTT | IL | ADMINISTRATIVE SWITCHBOARD | 86 | 05-Aug-99 | TBD
SCOTT | IL | MISCELANEOUS ACTIVITIES | 2 | 18-Mar-99 | 20-Mar-00
SHAW | SC | COMMUNICATION FUNCTIONS | 3 | 18-May-99 | 09-May-00
SHAW | SC | ENVIRONMENTAL | 2 | 22-Mar-00 | 10-Jul-00
TRAVIS | CA | FACILITIES SERVICES MAINTENANCE | 2 | 20-Apr-98 | 04-Jun-00
TRAVIS | CA | HEATING SYSTEMS | 5 | 20-Apr-98 | 15-Apr-00
VANCE | OK | SURVIVAL EQUIPMENT | 22 | 04-Feb-00 | 21-Oct-99
VANDENBERG AFB | CA | MISSILE STORAGE & MAINTENANCE | 66 | 14-Apr-99 | 18-Dec-99
WHITEMAN | MO | ADMINISTRATIVE SWITCHBOARD | 9 | 22-Dec-98 | 03-Sep-99
WHITEMAN | MO | HOSPITAL SERVICES | 2 | 17-Apr-98 | 17-Nov-98
WHITEMAN | MO | GROUNDS MAINTENANCE | 5 | 08-Dec-98 | 29-Sep-99

Janet A. Long,
Air Force Federal Register Liaison Officer.

[FR Doc. 00-13487 Filed 5-30-00; 8:45 am]

BILLING CODE 5001-05-P